INTERNATIONAL TRADE COMMISSION

[Investigation. No. 337-TA-1479]

Certain Dental Burs and Kits Thereof; Notice of Institution of Investigation

AGENCY: U.S. International Trade Commission.

ACTION: Notice.

SUMMARY: Notice is hereby given that a complaint was filed with the U.S. International Trade Commission on December 16, 2025, under section 337 of the Tariff Act of 1930, as amended, on behalf of Huwais IP Holding LLC of Jackson, Michigan and Versah, LLC of Jackson, Michigan. An amended complaint was filed on January 6, 2026. The amended complaint alleges violations of section 337 based upon the importation into the United States, the sale for importation, and the sale within the United States after importation of certain dental burs and kits thereof by reason of the infringement of: (1) certain claims of U.S. Patent No. 9,326,778 (“the '778 patent”) and U.S. Patent No. 11,712,250 (“the '250 patent); and (2) U.S. Trademark Registration No. 6,261,888 (“the '888 mark”); U.S. Trademark Registration No. 6,261,886 (“the '886 mark”); and U.S. Trademark Registration No. 4,689,471 (“the '471 mark”). The amended complaint further alleges that an industry in the United States exists as required by the applicable Federal Statute.

The complainants request that the Commission institute an investigation and, after the investigation, issue a general exclusion order, or in the alternative a limited exclusion order, and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on January 13, 2026, ordered that—

(1) Pursuant to subsection (b) of section 337 of the Tariff Act of 1930, as amended,

(a) an investigation be instituted to determine whether there is a violation of subsection (a)(1)(B) of section 337 in the importation into the United States, the sale for importation, or the sale within the United States after importation of certain products identified in paragraph (2) by reason of infringement of one or more of claims 1, 2, 5, and 6 of the '778 patent and claims 1 and 7 of the '250 patent, and whether an industry in the United States exists as required by subsection (a)(2) of section 337; and

(b) an investigation be instituted to determine whether there is a violation of subsection (a)(1)(C) of section 337 in the importation into the United States, the sale for importation, or the sale within the United States after importation of certain products identified in paragraph (2) by reason of infringement of the '888 mark, the '886 mark, and the '471 mark, and whether an industry in the United States exists as required by subsection (a)(2) of section 337;

(2) Pursuant to section 210.10(b)(1) of the Commission's Rules of Practice and Procedure, 19 CFR 210.10(b)(1), the plain language description of the accused products or category of accused products, which defines the scope of the investigation, is “osseodensification dental burs and kits thereof”;

(3) For the purpose of the investigation so instituted, the following are hereby named as parties upon which this notice of investigation shall be served:

(a) The complainants are:

Huwais IP Holding LLC, 4645 Eagle Drive, Jackson, MI 49201

Versah, LLC, 2000 Spring Arbor Road, Suite D, Jackson, MI 49203

(b) The respondents are the following entities alleged to be in violation of section 337, and are the parties upon which the complaint is to be served:

Pawn Move, Main Road Near Blue Heaven, Fateh Garh Road, Mohalah Ghaus Pura, Sialkot, 51310, Pakistan

Raheela Instruments, Butter Road, Dubai Transit, United Arab Emirates

Ali House of Dental, Near Tony Chowk Factory, Area Kacha Shabah Bura, Sialkot, Pakistan

Dental68, 701 Hanover Dr., Suite 100, Grapevine, TX 76051

Mahfooz Instruments, House No. 1/235-109 Commissioner Ro, Sialkot, Pakistan

Medsal International, Haji Pura Road, Sialkot, Pakistan, Hamsan International d/b/a Hamsan Surgical, Shahab Pura, NTN:41056094, Sialkot, PU 41310, Pakistan

Arck Instruments UK LTD, 110 Rock Avenue, Gillingham ME7 5PS, United Kingdom

Denshine, 11340 Jersey Boulevard, Rancho Cucamonga, CA 91730

DentalBTC, c/o Mediface Instruments, Shahab Pura Road, Opp. Tajdare-e-Madlina Marid, Sialkot, 61340, Pakistan -or- 701 Hanover Drive, Suite 100, Grapevine, TX 76051

iDentalShop, 301 Lively Blvd., Elk Grove Village, IL 60007

Dyna International, E26/37 C 4, Nouman Street, Lahore, 54000, Pakistan

Merit Surgical, 41 Coulthard Blvd., Cambridge, ON N1T 2G1, Canada

Skeema Dental Italia, Via Marco Minghetti, 41012 Carpi, Province of Modena, Italy

Orthodonticdental d/b/a Orthodent, 289, Belmont, 6104, WA Perth, Australia

New Med Instruments, Zafarwal Road, Talwara Mughlan, Sialkot, Pakistan

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: January 14, 2026.
Lisa Barton,
Secretary to the Commission.

[FR Doc. 2026-00887 Filed 1-16-26; 8:45 am]

BILLING CODE 7020-02-P